DEPARTMENT OF TRANSPORTATION

National Highway Traffic Safety Administration

49 CFR Parts 567 and 584

[Docket No. NHTSA 2005-22061]

RIN 2127-AJ56

Identification Requirements for Buses Manufactured in Two or More Stages

AGENCY: National Highway Traffic Safety Administration (NHTSA), DOT.

ACTION: Notice of proposed rulemaking.

SUMMARY: This document proposes to amend Part 567 to require that, in addition to the vehicle identification number, additional information be recorded on the certification label of each bus manufactured in two or more stages. The information would identify the bus body manufacturer and various vehicle attributes. This document also proposes to add a new Part 584 to require manufacturers of bus bodies for buses manufactured in two or more stages to obtain a manufacturer's identifier and to provide information to NHTSA about the bus bodies manufactured.

DATES: Comments must be received on or before October 17, 2005.

ADDRESSES: You may submit comments identified by the docket number by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Public Participation heading of the Supplementary Information section of this document. Note that all comments received will be posted without change to http://dms.dot.gov, including any personal information provided. Please see the Privacy Act heading under Rulemaking Analyses and Notice regarding documents submitted to the agency's dockets.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: For non-legal issues, you may call Mr. Charles Hott, Office of Crashworthiness Standards, at 202-366-0247; Charles.Hott@nhtsa.dot.gov. For legal issues, you may call Mr. George Feygin, Office of Chief Counsel, at 202-366-2992; George.Feygin@nhtsa.dot.gov.

You may send mail to these officials at National Highway Traffic Safety Administration, 400 7th Street, SW., Washington, DC 20590.

SUPPLEMENTARY INFORMATION:

Table of Contents

I. Background

A. Why the Agency Needs More Precise Information on Buses Manufactured in Two or More Stages.

B. Current Certification Process for Buses Manufactured in Two or More Stages.

II. The Proposed Rule

III. Benefits

IV. Costs

V. Request for Comments

VII. Rulemaking Analyses and Notices

VIII. Proposed Regulatory Text

I. Background

A. Why the Agency Needs More Precise Information on Buses Manufactured in Two or More Stages

On November 2, 1999, the National Transportation Safety Board (NTSB) issued recommendations to the U.S. Department of Transportation (DOT) to develop standard definitions and classifications for each of the different bus body types and to include these definitions and classifications in the Federal Motor Vehicle Safety Standards (FMVSSs).¹ Specifically, the NTSB recommended:

¹ See http://www.ntsb.gov/recs/letters/1999/h99%5F43%5F44.pdf.

In 1 year and in cooperation with the bus manufacturers, complete the development of standard definitions and classifications for each of the different bus body types, and include these definitions and classifications in the Federal Motor Vehicle Safety Standards (FMVSS). (H-99-43)

Once the standard definitions and classifications for each of the different bus types have been established in the Federal Motor Vehicle Safety Standards, in cooperation with the National Association of Governors' Highway Safety Representatives, amend the Model Minimum Uniform Crash Criteria's bus configuration coding to incorporate the FMVSS definitions and standards. (H-99-44)

The recommendations were a result of the NTSB September 1999 safety study “Bus Crashworthiness.” During that study, NTSB experienced difficulty determining detailed descriptive characteristics of buses manufactured in two or more stages from the Fatality Analysis Reporting System (FARS) database. Although bus body manufacturers are required to certify that their vehicles meet the FMVSSs, they are not required to encode in the certification label affixed to the completed vehicle any descriptive information about the body they install.

When buses are involved in crashes, the police report and FARS record the vehicle identification number (VIN). The name of the manufacturer is required to be on the certification label, but this information is not typically recorded on the police accident report form. For vehicles manufactured in one stage, the type of vehicle and bus body information is already encoded into the VIN. However, for buses manufactured in more than one stage, the VIN only identifies the incomplete vehicle manufacturer. The final stage manufacturer name and bus model are not encoded in the VIN and are not recorded in the police accident reports.

NTSB recommended that descriptive information be captured on police accident report forms, thereby greatly simplifying identification work when conducting investigations or analyses of FARS. NTSB believes that “the incorporation of bus identification into the VIN and expansion of the use category will correct some of the inaccuracies in FARS data.”²

² Highway Special Report: “Bus Crashworthiness Issues, National Transportation Safety Board,” September 1999.

In June and August of 2000, meetings were held between the Office of the Secretary of the Department of Transportation, National Highway Traffic Safety Administration (NHTSA), Federal Motor Carrier Safety Administration (FMCSA), Federal Transit Administration, NTSB, bus manufacturers, and industry association representatives. At the meetings, the parties discussed whether bus configuration or bus use would be appropriate determining factors in devising a coding scheme for the final stage manufacturers' certification labels and police accident report forms.

At the meetings, it was suggested that in-service bus uses vary considerably and often change, and therefore, it would be impractical to develop bus definitions based on use. Instead, attendees suggested that basic descriptive information such as length, seating configuration, or accessibility features for persons with disabilities, could be provided to better identify the type of bus body installed on the chassis.

It was also suggested that, in addition to the VIN, descriptive information could be encoded on the final stage manufacturer's certification label. Because the final stage bus manufacturers already routinely record a body number on the certification label, this would not be a complex or controversial task. We have considered the issues raised at the meetings in preparing this proposal.

Currently, the FARS records fatalities in the following bus type categories: intercity, transit, school, other, and unknown. Little is known about the type of buses involved in the fatalities that appear in “other” and “unknown” bus type categories. These buses are typically specialty type buses that are manufactured in two or more stages. They include the buses that are used for shuttle services to and from airports, transit systems for transporting the medically fragile and mobility impaired, churches to transport people to and from religious events, and businesses to shuttle people from location to location. These buses typically incorporate a cutaway chassis provided by an incomplete vehicle manufacturer. The bus body is typically manufactured and installed by a final stage manufacturer.

The last five years of FARS data reveal that there are about twelve fatalities per year that fall within the “other” or “unknown” bus type categories. There is no way to identify in the FARS database buses that are manufactured in two or more stages and are involved in fatal crashes. The current system requires that the VIN be recorded on the police accident report filed by the state. Although the final stage manufacturer name must be recorded on the certification label, the current system does not require that police record this information on the police accident report. If this proposal is adopted, it would give researchers and analysts the ability to determine the descriptive information about the defined characteristics of the bus body without the need to perform a study of each crash. This information could be used by researchers and others to better define safety improvements to reduce the number of fatalities and serious injuries in bus crashes.

B. Current Certification Process for Buses Manufactured in Two or More Stages

Although some buses are manufactured in a single stage by a single manufacturer, many smaller buses are manufactured in multiple stages by a series of manufacturers. For example, an incomplete vehicle manufacturer may provide chassis and engine, while the final stage manufacturer would install a body, thus completing the bus. Under the current requirements in 49 CFR Part 565, the incomplete vehicle manufacturer assigns the VIN. The VIN and other required information is sent with the incomplete vehicle document (IVD) that is required by 49 CFR part 568, Vehicles Manufactured in Two or More Stages. The final stage manufacturer, when completing the vehicle, then transcribes this information to the vehicle certification label that is required by 49 CFR Part 567, Certification. This NPRM proposes to require final stage manufacturers to add additional information to the certification label as a suffix to the VIN. This information would describe the vehicle manufacturer and certain attributes about the type of bus, e.g., model number, seat configuration, and bus body length.

II. The Proposed Rule

This NPRM proposes to amend Part 567 to require that a new ten-digit suffix be appended to the VIN on the certification label for buses manufactured in two or more stages. The new suffix would identify the bus body manufacturer and certain attributes about the type of bus, e.g., model number, seat configuration, and bus body length. It also proposes to add a new Part 584 to require that bus body manufacturers of buses manufactured in two or more stages obtain a manufacturer's identifier and provide the descriptive information necessary to decode the suffix. This manufacturer identifier will be part of the unique descriptive information that will be recorded on the certification label.

NHTSA believes that the proposed coding scheme would provide the minimum necessary information so that when it is recorded on the police incident report and in FARS or National Automotive Sampling System General Estimates System (NASS/GES), crash investigators and analysts would have sufficient information to ascertain the type of bus as well as other make and model information such as bus length and seat configuration. We believe the proposed final stage manufacturer suffix should be kept as simple as possible to reduce the chance that it will be improperly recorded at the scene of the incident or crash. NHTSA believes that a ten-digit descriptor would be large enough to capture this information.

The first three digits would identify the final stage bus manufacturer. These digits would be alphanumeric characters, 0-9, and A-Z. This would allow for as many as 46,656 manufacturers in the database. This should be a sufficient number of digits to allow for many years of expansion. The fourth digit would be an alphanumeric character and would identify the manufacturer's model number. This allows for as many as 36 different models within a given manufacturer. The fifth digit would identify the as-built gross vehicle weight rating (GVWR) of the vehicle. The sixth digit would be an alphanumeric character that identifies the bus body length and seating configuration. The manufacturer would assign the sixth digit in accordance with Table 1. The last four digits, digits seven through ten, would consist of a sequence number that would identify the body production sequence.

Table 1.—Bus Length and Seating Configuration Codes
Seating configuration | Bus body length (mm): ≤6,096 | Bus body length (mm): >6,096 ≤6,706 | Bus body length (mm): >6,706 ≤7,620 | Bus body length (mm): >7,620 ≤8,534 | Bus body length (mm): >8,534
Forward | A | E | I | M | Q
Rearward | B | F | J | N | R
Side | C | G | K | O | S
Combination | D | H | L | P | T

The “Manufacturer's Identification” would require that each manufacturer of a bus that is manufactured in two or more stages have a unique identifier. NHTSA would assign these manufacturer identification numbers and would maintain a database. Manufacturers would write to the agency to have an identification code assigned.

The manufacturer assigns the “Model” digit. This would identify the particular model that the manufacturer assigns to the bus. Having this number recorded would allow a researcher or investigator to contact the manufacturer to find out the specifics of the bus.

The “GVWR” digit would identify the GVWR in the as-built configuration. If the manufacturer does not change the GVWR provided in the IVD, then they need only to provide an identification code for that value. If the manufacturer changes the GVWR that is provided in the IVD, then they would have to identify that value.

The “Body Length and Seat Configuration” digit identifies the bus body length and seating configuration. The bus body length is defined as the overall length of the vehicle and is modeled after the National Truck Equipment Association s Mid-Size Bus Manufacturers Association specifications. This specification identifies five categories for bus lengths:

≤6,096 mm (20 feet)

>6,096 mm (20 feet) ≤ 6,706 mm (22 feet)

>6,706 mm (22 feet) ≤ 7,620 mm (25 feet)

>7,620 mm (25 feet) ≤ 8,534 mm (28 feet)

>8,534 mm (28 feet)

Currently, school buses are the only buses that have known seating configurations. School buses are required to have all the passenger seats forward facing. Other buses, such as airport shuttles, rental car shuttles and transit buses, typically have forward facing and side facing seats. Some specialty buses have “social seating.” Social seating is defined herein as having sets of two rows of seats that face each other in the fore and aft direction of the bus body, i.e., one row of seats is rear facing and the row immediately after that is forward facing. Some buses have all side facing seats.

NHTSA believes that a scheme that encodes the body length and seating configuration would be beneficial in assessing the safety of the various seating configurations used in today's buses. Seating configuration can be grouped into four categories: forward facing, rear facing, side facing and combination. The combination category would include buses that have seats arranged in more than one seating direction. NHTSA proposes the letter codes shown in Table 1 above, that will uniquely identify the bus body length and seating configurations.

The last four digits would indicate a manufacturer sequence number. This number could be the model sequence number or the body production sequence that manufacturers currently assign and provide.

We are proposing to make the proposed rule effective 18 months after publication of a final rule.

III. Benefits

This rulemaking does not have any directly attributable benefits. However, indirect derivative benefits for future safety improvements from this proposal are possible since it would provide crash investigators information about the bus manufacturer and other information related to the construction of the bus body. The unique descriptor would assist investigators, analysts, the public, and industry by providing new safety-related information that identifies the manufacturer and other specifics about buses that are manufactured in two or more stages.

IV. Costs

NHTSA believes that there would be a one-time administrative cost for the bus manufacturer to go through the process of obtaining a manufacturer identifier, learn the final rule and change their certification label system. NHTSA estimates that it will take manufacturers approximately one hour ($40 per hour) to apply for the number, eight hours ($40 per hour) to learn the final rule, and three 8-hour days ($80 per hour) for a software programmer to setup the system. The total cost of this effort is estimated to be $2,280 per manufacturer [(9 hours @ $40 per hour = $360) + (24 hours @ $80 per hour = 1,920) = $2,280]. NHTSA is aware of 80 manufacturers of buses in two or more stages. Therefore, NHTSA estimates the total one time cost to be approximately $182,400 (80 X $2,280).

NHTSA also believes that adding more numbers to the label would result in an additional cost of approximately $0.01 per bus. Using the information for the 2003 production year for school buses and mid-sized buses, NHTSA estimates that there are approximately 43,000 buses manufactured in two or more stages annually. Therefore, NHTSA estimates that the recurring cost to all the manufacturers would be $430 (43,000 X $0.01). NHTSA estimates that it would take manufacturers one-hour ($40) to prepare the paper work for annual submission for a annual cost of $3,200 (80 X $40) for a total annual recurring cost of $3,630 ($430 + $3,200).

Most, if not all, manufacturers of buses built in two or more stages are small businesses. Although we expect additional costs to be minimal, we seek comment on what impact this added data recording would have on manufacturers of buses built in two or more stages.

V. Request for Comments

We request comments on the following issues:

1. Because the primary purpose of the police officer on the scene of a fatal crash is to secure the crash site for the safety of other motorists on the highway, we are seeking comment on the burden recording this final stage manufacturer suffix, in addition to the VIN, would impose on the police investigator.

2. Benefits from this rulemaking may be limited by mistakes made in the transcription of the new ten-digit suffix. NHTSA has been concerned about errors in the FARS data as a result of transcription errors when recording the VIN. The same risk of transcription errors exists in the context of recording the final stage manufacturer suffix. We are seeking comment on the likelihood that the final stage manufacturer suffix would be recorded at the crash scene by the police officers and then transcribed in the FARS database correctly.

3. To address the problem of transcription errors, many of the larger vehicle manufacturers are placing universal product codes (bar codes) on the certification label, and in some police jurisdictions each officer has a bar code reader for reading drivers license information and vehicle information electronically at the scene to reduce the chance for error. We seek comment about what proportion of police investigators of fatal crashes would have such technology. Given that transcription errors do exist, in the FARS database, should NHTSA require that buses built in two or more stages place bar code information on the certification label? In the event that NHTSA decided to require the manufacturers to provide the certification label information in a bar code format, NHTSA is also seeking information on the cost of bar code equipment and associated software.

4. NHTSA proposes that the new ten-digit suffix identifying the bus body manufacturer and certain attributes about the bus type be included in the Model Minimum Uniform Crash Criteria's (MMUCC) document. The MMUCC is the document that States use as a template for the police accident reports used to collect information at the crash scene. The MMUCC is produced through a committee process involving the States. The States then voluntarily incorporate these model codes into their accident report forms.

If the States incorporate this new information into the MMUCC, manufacturer information and descriptive information about buses manufactured in two or more stages would be available in the FARS database. Achieving the full potential benefits of this rulemaking would be dependent upon State adoption of the revised MMUCC. We are seeking comment from State and local government regarding whether they would voluntarily change their police accident reports to include this information, and if so, what would be the burden to record the additional information.

5. There may be other possible methods to obtain information about fatalities in buses manufactured in two or more stages. Given that the population for bus crashes in the “other” and “unknown” categories is very small, 12 fatalities a year, there may be non-regulatory solutions to make this data readily available so it can be used by researchers, investigators, analysts, the public, and the industry when conducting safety investigations or studies. NHTSA seeks comments regarding other approaches to obtaining information about buses manufactured in two or more stages that have been involved in fatal crashes.

One possible solution would be to perform a study of buses involved in fatal crashes each year and produce a publicly available report. Researchers and other parties could review this report and make inquiries to the manufacturer about the attributes of the bus body if needed for their research. Currently, FMCSA performs such a study annually. Given that FMCSA produces an annual report, we are seeking comment about what value requiring this description information on the certification label would add.

Another possible solution would be to record final stage manufacturer information on the police accident reports. With the name of the final stage manufacturer and the VIN, researchers could contact bus manufacturers and obtain the necessary information regarding the vehicle's configuration. Currently, the investigative police officer at the crash scene completes a police accident report (PAR) that includes the VIN and other information required by the state for fatal crashes. The PAR information is then transcribed by the state analyst into the FARS database and submitted to NHTSA annually. Given that the name of the final stage manufacturer is already required on the certification label, what is the viability of having the police officer record the name of the final stage bus manufacturer on the PAR?

NHTSA seeks any other suggestions for capturing information on buses manufactured in two or more stages for researchers and analysts to perform safety research. NHTSA requests public comments on specific suggestions.

6. We are proposing to add a new Part 584 to Chapter 49. However, we are also considering incorporating these proposed requirements into one or more existing regulations, such as Part 566. Comments are invited on this issue.

How Do I Prepare and Submit Comments?

Interested persons are invited to submit comments in response to this request for comments. For easy reference, the agency has consecutively numbered its questions. We request that commenters respond to each question by these numbers and provide all relevant factual information of which they are aware to support their conclusion or opinions, including but not limited to statistical data and estimated cost and benefits, and the source of such information.

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Please submit two copies of your comments, including the attachments, to Docket Management at the address given above under ADDRESSES.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512.)

Will the Agency Consider Late Comments?

We will consider all comments that Docket Management receives before the close of business on the comment closing date indicated above under DATES. To the extent possible, we will also consider comments that Docket Management receives after that date.

How Can I Read the Comments Submitted by Other People?

You may read the comments received by Docket Management at the address given above under ADDRESSES. The hours of the Docket are 9 a.m. to 5 p.m., Monday to Friday, except Federal holidays.

You may also see the comments on the Internet. To read the comments on the Internet, take the following steps:

Go to the Docket Management System (DMS) Web page of the Department of Transportation (http://dms.dot.gov).

On that page, click on “search.”

On the next page (http://dms.dot.gov/search/), type in the five-digit docket number shown at the beginning of this document. Example: If the docket number were “NHTSA-2001-12345,” you would type “12345.” After typing the docket number, click on “search.”

On the next page, which contains docket summary information for the docket you selected, click on the desired comments. You may download the comments.

Please note that even after the comment closing date, we will continue to file relevant information in the Docket as it becomes available. Further, some people may submit late comments. Accordingly, we recommend that you periodically check the Docket for new material.

VII. Rulemaking Analyses and Notices

A. Executive Order 12866 and DOT Regulatory Policies and Procedures

NHTSA has considered the impact of this rulemaking action under Executive Order 12866 and the Department of Transportation's regulatory policies and procedures. The Office of Management and Budget has not reviewed this rulemaking document under E.O. 12866, “Regulatory Planning and Review.” This rulemaking is not considered significant under the Department of Transportation's regulatory policies and procedures. This proposed rule would impose minimal costs on regulated parties or on the American public since it would merely require final stage bus manufacturers to print ten additional digits on a label that the manufacturers are already required to produce.

B. Regulatory Flexibility Act

NHTSA has considered the effects of this rulemaking action under the Regulatory Flexibility Act (5 U.S.C. 601 et seq.) This action would not have a significant economic impact on a substantial number of small businesses even though most, if not all, manufacturers of buses manufactured in two or more stages are small businesses. This rule would not have a significant economic impact on these entities because all manufacturers already record a “body number” on the buses. This rule only standardizes the body number scheme so that the same information can be collected and analyzed as is done for buses that are built by a single manufacturer.

C. Executive Order 13132 (Federalism)

Executive Order 13132, “Federalism” (64 FR 43255, August 10, 1999), requires NHTSA to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.” The agency has analyzed this rulemaking in accordance with the principles and criteria contained in Executive Order 13132 and has determined that it does not have sufficient federalism implications to warrant the preparation of a federalism summary impact statement. Although, the agency would seek voluntary cooperation by the States in the gathering and reporting of information, the final rule, if issued, would have no substantial effects on the States, or on the current Federal-State relationship, or on the current distribution of power and responsibilities among the various local officials. Nevertheless, the agency seeks comment from State and local officials regarding this rulemaking.

D. Executive Order 12988 (Civil Justice Reform)

The proposed rule would not have any retroactive effect. A petition for reconsideration or other administrative proceeding would not be a prerequsite to an action seeking judicial review of a final rule. If adopted as a final rule, the regulation would preempt state laws and regulations that are in actual conflict with the Federal regulation.

E. Executive Order 13045 (Protection of Children From Environmental Health and Safety Risks)

Executive Order 13045 applies to any rule that: (1) Is determined to be “economically significant” as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This rulemaking is not economically significant.

F. Paperwork Reduction Act

Under the Paperwork Reduction Act of 1995 (PRA), a person is not required to respond to a collection of information by a Federal agency unless the collection displays a valid Office of Management and Budget (OMB) control number. This proposed rule would introduce new collection of information requirements in that the proposal, if made final, would require new information to be provided on existing NHTSA specified labels and Standard Forms. If made final, this proposed rule would result in the following changes to two collections of information for which NHTSA has obtained Collection of Information Clearances from OMB.

The first OMB approved collection of information that may be affected would be OMB Clearance No. 2127-0510 “Consolidated VIN Requirements and Motor Vehicle Theft Prevention Standards.” The clearance expires on March 21, 2008, and OMB has approved NHTSA to collect 1,535,249 hours (affecting 23,000,000 responses) under Clearance No. 2127-0510. As earlier stated, if made final, this proposed rule would require the affected 80 bus manufacturers to go through the process of creating VIN suffixes. Each of the bus manufacturers would obtain a manufacturer identifier, learn the final rule and change their certification label system. There would be the following one-time costs: one hour (at $40 an hour) to apply for the number, and eight hours (at $40 an hour) to learn the final rule; plus three days for a software programmer to set up the system (at $80 an hour). The total cost of this effort per bus manufacturer is $2,280 [(9 hours multiplied by $40 per hour = $360) + (24 hours multiplied by $80 per hour = 1,920) = $2,240]. NHTSA estimates the total one-time cost to be 80 manufacturers times $2,280 or $182,400.

NHTSA further estimates that adding more numbers to the VIN and certification labels will result in an additional cost of approximately $0.01 per bus and 1/3600 burden hours (one second) per bus. Using the information for the 2003 production year for school buses and mid-sized buses, NHTSA estimates that there are approximately 43,000 buses manufactured in two or more stages annually. Therefore, NHTSA estimates that if this proposed rule is made final, the total recurring cost to all bus manufacturers would be an increase of $430 (43,000 × $0.013) and approximately 12 hours (43,000 divided by 1/3600 of an hour) per year under Clearance No. 2127-0510.

The second OMB approved collection of information that may be affected would be OMB Clearance No. 2127-0006 “Fatality Analysis Reporting System (FARS).” The clearance expires on March 31, 2008, and OMB has approved NHTSA to collect 82,364 hours (affecting 38,309 responses) under Clearance No. 2127-0006. This clearance includes OMB approval for Standard Forms HS-214, HS-214A, HS-214B, and HS-214C.” As earlier stated, if made final, this proposed rule would require extra data to be collected on the approximately twelve bus crashes occurring each year that result in fatalities to bus passengers.

If this rule is made final, NHTSA would amend one or more of the approved Standard Forms to include the bus attributes earlier described in this notice. Those collecting the information at the crash site would include the extra information about the attributes of the bus in which a passenger died as a result of a crash. NHTSA believes that it would take the person filling out the report an extra minute to provide information about the bus attributes. Therefore, NHTSA estimates that if this proposed rule is made final, the total recurring collection of information burden on all those collecting information pursuant to FARS would be approximately 12 minutes (1 minute multiplied by 12 crashes) per year under Clearance No. 2127-0006.

G. National Technology Transfer and Advancement Act

Section 12(d) of the National Technology Transfer and Advancement Act (NTTAA) requires NHTSA to evaluate and use existing voluntary consensus standards ³ in its regulatory activities unless doing so would be inconsistent with applicable law (e.g., the statutory provisions regarding NHTSA's vehicle safety authority) or otherwise impractical. In meeting that requirement, we are required to consult with voluntary, private sector, consensus standards bodies. Examples of organizations generally regarded as voluntary consensus standards bodies include the American Society for Testing and Materials (ASTM), the Society of Automotive Engineers (SAE), and the American National Standards Institute (ANSI). If NHTSA does not use available and potentially applicable voluntary consensus standards, we are required by the Act to provide Congress, through OMB, with an explanation of the reasons for not using such standards. This rulemaking only addresses the information to be included on a certification label. As such, the issues involved here are not amenable to the development of voluntary standards.

³ Voluntary consensus standards are technical standards developed or adopted by voluntary consensus standards bodies. Technical standards are defined by the NTTAA as “performance-based or design-specific technical specifications and related management systems practices.” They pertain to “products and processes, such as size, strength, or technical performance of a product, process or material.”

H. Unfunded Mandates Reform Act

The Unfunded Mandates Reform Act of 1995 requires agencies to prepare a written assessment of the costs, benefits and other effects of proposed or final rules that include a Federal mandate likely to result in the expenditure by State, local or tribal governments, in the aggregate, or by the private sector, of more than $100 million annually (adjusted for inflation with base year of 1995). The final rule, if issued, would not require the expenditure of resources above and beyond $100 million annually.

I. National Environmental Policy Act

NHTSA has analyzed this rulemaking action for the purposes of the National Environmental Policy Act. The agency has determined that implementation of this action will not have any significant impact on the quality of the human environment.

J. Regulatory Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

K. Privacy Act

Please note that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

VIII. Proposed Regulatory Text

In consideration of the foregoing, NHTSA proposes to amend 49 CFR Parts 567 and add Part 584 to read as follows:

List of Subjects in 49 CFR Parts 567 and 584

Labeling, Motor vehicle safety, Reporting and recordkeeping requirements.

PART 567—CERTIFICATION

1. The authority citation for Part 567 would continue to read as follows:

Authority: 49 U.S.C. 322, 30111, 30115, 30117, 30166, 32502, 32504, 33101-33104, 33108, and 33109; delegation of authority at 49 CFR 1.50.

§ 567.5 [Amended]

2. Section 567.5 would be amended by adding new paragraph (c)(10) to read as follows:

* * * * *

(c)(10) In the case of a bus, the final stage manufacturer's descriptor in accordance with Part 584 of this chapter.

* * * * *

PART 584—BUSES MANUFACTURED IN TWO OR MORE STAGES

A new Part 584 would be added to read as follows:

PART 584—BUSES MANUFACTURED IN TWO OR MORE STAGES

Sec.
584.1 Purpose and scope.
584.2 Applicability.
584.3 Definitions.
584.4 General requirements.
584.5 Content requirements for buses manufactured in two or more stages.
584.6 Reporting requirements.

Authority: 49 U.S.C. 322, 30111, 30115, 30117, 30141, 30146, 30166, and 30168; delegation of authority at 49 CFR 1.50.

§ 584.1 Purpose and scope.

This part specifies format and content requirements for a suffix to the vehicle identification number (VIN) to simplify the identification of particular types of buses, facilitate the retrieval, comparison, and analysis of crash data, and increase the accuracy and efficiency of vehicle recall campaigns.

§ 584.2 Applicability.

This part applies to buses manufactured in two or more stages.

§ 584.3 Definitions.

Final stage manufacturers identification means a unique identification code that is assigned by the National Highway Traffic Safety Administration to the manufacturer.

Model means the type of bus body type as assigned by the bus body manufacturer.

GVWR means the gross vehicle weight rating as defined in 49 CFR Part 567 in the as built configuration.

Body length means the overall length of the vehicle main structure from front bumper to rear bumper, but does not include any attachment hardware that may be projecting outward from the vehicle.

Seating configuration means seating placement with respect to the longitudinal axis of the bus body.

Sequence number means the number sequentially assigned by the manufacturer in the production process.

§ 584.4 General requirements.

(a) Each bus manufactured in two or more stages shall have a suffix to the vehicle identification number that is assigned by the bus body manufacturer.

(b) Each character in the final stage manufacturer suffix shall be one of the letters in the set: [ABCDEFGHIJKLMNOPQRSTUVWXYZ] or a numeral in the set: [0123456789]

§ 584.5 Content requirements for buses manufactured in two or more stages.

Manufacturers and alterers of buses manufactured in two or more stages shall affix a unique (within the model type for each manufacturer) suffix after the VIN. This suffix shall be separated by a hyphen and be placed after the VIN on the vehicle certification label as shown in figure 1.

BILLING CODE 4910-59-P

The final stage manufacturer's descriptor shall consist of 10 alphanumeric characters that shall be grouped as shown in figure 2:

BILLING CODE 4910-59-C

(a) The first section shall consist of three alphanumeric characters that occupy positions one through three (1-3) in the final stage manufacturer suffix. This section shall uniquely identify the final stage manufacturer.

(b) The second section shall consist of a single alphanumeric character that occupies position four (4) in the final stage manufacturer suffix. This identifies the manufacturer's model and is assigned by the final stage manufacturer.

(c) The third section shall consist of a single digit that represents the gross vehicle weight rating of the bus in the as built configuration.

(d) The fourth section shall consist of a single alphanumeric character that occupies position six (6) in the final stage manufacturer suffix. This identifies the bus body length and seating configuration and is assigned by the manufacturer as per Table 1.

(e) The fifth section shall consist of sequence number that occupies positions seven through ten (7-10). This sequence identifies the body production sequence as assigned by the bus manufacturer.

Table 1
Seating configuration | Bus body length (mm): ≤6,096 | Bus body length (mm): >6,096 ≤6,706 | Bus body length (mm): >6,706 ≤7,620 | Bus body length (mm): >7,620 ≤8,534 | Bus body length (mm): >8,534
Forward | A | E | I | M | Q
Rearward | B | F | J | N | R
Side | C | G | K | O | S
Combination | D | H | L | P | T

§ 584.6 Reporting requirements.

(a) All requests for assignments of a final stage manufacturer identifier should be forwarded directly to: Office of Vehicle Safety Compliance, National Highway Traffic Safety Administration, 400 Seventh Street, SW., Washington, DC 20590, Attention: Bus Manufacturer's Coordinator.

(b) Manufacturers of vehicles subject to this part shall submit to NHTSA, either directly or through an agent, the unique descriptor for each make and model of vehicle it manufacturers at least 60 days before affixing the label to the first bus using the identifier.

(c) Manufacturers of vehicles subject to this part shall submit to NHTSA the information necessary to decipher the characters contained in its final stage manufacturer suffix. The agency will not routinely provide written approvals of these submissions, but will contact the manufacturer should any corrections to these submissions be necessary.

(d) The information required under paragraph (c) of this section shall be submitted at least 60 days prior to offering for sale the first bus identified by a final stage manufacturer suffix containing that information. The information shall be addressed to: Office of Vehicle Safety Compliance, National Highway Traffic Safety Administration, 400 Seventh Street, SW., Washington, DC 20590, Attention: Bus Manufacturer's Coordinator.

Issued: August 12, 2005.
Roger A. Saul,
Director, Office of Crashworthiness Standards.

[FR Doc. 05-16324 Filed 8-17-05; 8:45 am]

BILLING CODE 4910-59-P